Proclamation 7489 of October 24, 2001

National Red Ribbon Week for a Drug-Free America, 2001

By the President of the United States of America

A Proclamation

Drug and alcohol abuse in America annually create staggering societal costs and prevent millions of people from reaching their full potential at school, on the job, and in their communities. The Department of Health and Human Services estimates that approximately 14 million Americans use illegal drugs and 17 million Americans are alcoholics or abusers of alcohol. To improve the well-being of our Nation and to protect our people, we must continue to make the prevention and treatment of drug and alcohol abuse a national priority.

The rate of abuse of drugs and alcohol by our Nation's youth is cause for alarm. Currently, 3 million young people between the ages of 14 and 17 have an alcohol problem, and more than half of America's school-age children have tried illegal drugs by the time they have finished high school. Research indicates that youth who avoid the early use of alcohol, tobacco, and marijuana are less likely to engage in other harmful behaviors such as crime, delinquency, and other illegal drug use. That is why we must clearly communicate to America's youth that drug and alcohol abuse is dangerous and harmful to both their health and their future.

Through the efforts of families, law enforcement officers, healthcare professionals, teachers, and dedicated community activists, we have made progress in the ongoing war against substance abuse. To continue this progress, my Administration is implementing a comprehensive, results-oriented strategy for reducing illegal drug use in America. We will work cooperatively with other nations to help eradicate illegal drugs at their source. We will increase border security to stop the flow of these drugs into America. And we will provide Federal support to local law enforcement agencies in combating drug trafficking networks.

The most effective way, however, to reduce the cycle of youth drug addiction and the crime it causes is to reduce demand. This effort begins at home; and it depends upon the active participation of families, schools, and community organizations in education and outreach programs that clearly communicate to children the dangers inherent in drug and alcohol abuse.

On the occasion of “National Red Ribbon Week for a Drug-Free America,” Laura and I are pleased to serve as Honorary Chairpersons of the 2001 National Red Ribbon Campaign. We join all Americans in saying that we will no longer tolerate the destructive impact that drug and alcohol abuse have had on our homes, schools, workplaces, and highways. With strong resolve and creative leadership, we can protect our communities from the preventable dangers of substance abuse and restore dignity and character to millions of men, women, and children who are addicted to drugs and alcohol.

NOW, THEREFORE, I, GEORGE W. BUSH, President of the United States of America, by virtue of the authority vested in me by the Constitution and laws of the United States, do hereby proclaim the period beginning October 23 through October 31, 2001, as National Red Ribbon Week for a Drug-Free America. I encourage citizens to support activities that raise awareness and encourage prevention of substance abuse. I also call upon every American to wear a red ribbon throughout the week in recognition of their commitment to a healthy, drug-free lifestyle and our commitment to a drug-free America.

IN WITNESS WHEREOF, I have hereunto set my hand this twenty-fourth day of October, in the year of our Lord two thousand one, and of the Independence of the United States of America the two hundred and twenty-sixth.

B

[FR Doc. 01-27444

Filed 10-29-01; 11:38 am]

Billing code 3195-01-P